DEPARTMENT OF COMMERCE

National Oceanic and Atmospheric Administration

RIN: 0648-XS32

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a web based meeting of the ABC Control Rule Working Group.

DATES: The webinar meeting will convene at 10 a.m. Eastern Time on Friday, October 30, 2009 and is expected to end at 1 p.m.

ADDRESSES: The webinar will be accessible via internet. Please go to the Gulf of Mexico Fishery Management Council's website at www.gulfcouncil.org for instructions.

Council address: Gulf of Mexico Fishery Management Council, 2203 N. Lois Avenue, Suite 1100, Tampa, FL 33607.

FOR FURTHER INFORMATION CONTACT: Steven Atran, Population Dynamics Statistician; Gulf of Mexico Fishery Management Council; telephone: (813) 348-1630.

SUPPLEMENTARY INFORMATION: The ABC Control Rule Working Group is an ad hoc group composed of members of the Standing Scientific and Statistical Committee (SSC), Council members and Council staff that has been tasked with developing a framework, or control rule, for setting acceptable biological catch (ABC) levels for stocks and stock complexes managed by the Council. The Working Group will meet to discuss a draft of the ABC control rule being developed. The discussion will include a review of Council recommendations to the group on acceptable levels of risk and a discussion of productivity-susceptibility analyses (PSA) methods for adoption into the control rule. The Working Group will also develop an outline for a presentation of its draft control rule by an SSC representative at the National SSC Workshop in November.

Copies of the agenda and other related materials can be obtained by calling (813) 348-1630.

Although other non-emergency issues not on the agenda may come before the ABC Control Rule Working Group for discussion, in accordance with the Magnuson-Stevens Fishery Conservation and Management Act (Magnuson-Stevens Act), those issues may not be the subject of formal action during this meeting. Actions of the Working Group will be restricted to those issues specifically identified in the agenda and any issues arising after publication of this notice that require emergency action under Section 305(c) of the Magnuson-Stevens Act, provided the public has been notified of the Council's intent to take action to address the emergency.

Special Accommodations

This webinar is accessible to people with disabilities. For assistance with any of our webinars contact Tina O'Hern at the Council (see ADDRESSES) at least 5 working days prior to the webinar.

Dated: October 9, 2009.
Tracey L. Thompson,
Acting Director, Office of Sustainable Fisheries, National Marine Fisheries Service.

[FR Doc. E9-24740 Filed 10-14-09; 8:45 am]

BILLING CODE 3510-22-S